DEPARTMENT OF COMMERCE

National Oceanic and Atmospheric Administration

50 CFR Part 679

[I.D. 091301C]

RIN 00648-AL98

Fisheries of the Exclusive Economic Zone Off Alaska; Revision of Overfishing Definitions for the Salmon Fishery

AGENCY: National Marine Fisheries Service (NMFS), National Oceanic and Atmospheric Administration (NOAA), Commerce.

ACTION: Approval of fishery management plan amendment.

SUMMARY: NMFS announces the approval of Amendment 6 to the Fishery Management Plan for the Salmon Fisheries in the Exclusive Economic Zone Off the Coast of Alaska (salmon FMP). This amendment is necessary to implement overfishing definitions for the salmon fishery authorized under the salmon FMP. This action is intended to ensure that conservation and management measures continue to be based on the best scientific information available and to advance the Council’s ability to achieve, on a continuing basis, the optimum yield from fisheries under its jurisdiction.

DATES: The amendment was approved on January 2, 2002.

ADDRESSES: Copies of Amendment 6 to the salmon FMP, and the Environmental Assessment (EA) prepared for the amendment are available from the Sustainable Fisheries Division, Alaska Region, NMFS, P.O. Box 21668, Juneau, AK 99802-1668, Attn: Lori Gravel.

FOR FURTHER INFORMATION CONTACT: Gretchen Harrington, 907-586-7228 or gretchen.harrington@noaa.gov.

SUPPLEMENTARY INFORMATION: NMFS published a notice of availability for Amendment 6, which described the proposed amendment and invited comments from the public, in the Federal Register on October 5, 2001 (66 FR 51001). Comments were invited until December 4, 2001. NMFS received no public comments.

The Council and NMFS prepared an EA for Amendment 6 that describes the management background, the purpose and need for action, the management alternatives, and the environmental and the socio-economic impacts of the alternatives. A copy of the EA can be obtained from NMFS (see ADDRESSES).

Amendment 6 to the salmon FMP implements overfishing definitions in compliance with the Magnuson-Stevens Fishery Conservation and Management Act (Magnuson-Stevens Act). The Magnuson-Stevens Act defines the terms “overfishing” and “overfished” to mean a rate or level of fishing mortality that jeopardizes the capacity of a fishery to produce the maximum sustainable yield (MSY) on a continuing basis, and requires that all fishery management plans:

specify objective and measurable criteria for identifying when the fishery to which the plan applies is overfished (with an analysis of how the criteria were determined and the relationship of the criteria to the reproductive potential of stocks of fish in that fishery) and, in the case of a fishery which the Council or the Secretary has determined is approaching an overfished condition or is overfished, contain conservation and management measures to prevent overfishing or end overfishing and rebuild the fishery (Section 303 (a)(10)).

Section 301 (a) of the Magnuson-Stevens Act establishes national standards for fishery conservation and management, and requires that all fishery management plans contain management measures consistent with those standards. National standard 1 requires that conservation and management measures shall “prevent overfishing while achieving, on a continuing basis, the optimum yield from each fishery for the United States fishing industry.” Pursuant to section 301(b) of the Magnuson-Stevens Act, NMFS issued national standard guidelines to provide comprehensive guidance for the development of fishery management plans and amendments that comply with the national standards (May 1, 1998, 63 FR 24212). These guidelines are codified in Title 50, Code of Federal Regulations, part 600 (50 CFR 600.305-600.355).

The salmon FMP allows a commercial troll fishery in the exclusive economic zone (EEZ) off southeast Alaska (SEAK EEZ), and closes the remaining EEZ in central and western Alaska to commercial salmon fishing. All other salmon fishing occurs either in waters of the State of Alaska (State) or in one of three historical State-managed net fishing areas that extend into the EEZ. The fisheries in these three historical fishing areas are not covered by the salmon FMP. The salmon FMP defers management of the commercial troll fishery to the State and the U.S.-Canada Pacific Salmon Commission (PSC).

Through the salmon FMP, the Council intends to conserve and manage the salmon resources in the North Pacific Ocean and to allow the fisheries in State and EEZ waters to be managed as one fishery. Regulations for the Alaska salmon fishery are made by the Alaska Board of Fisheries (Board) consistent with State and Federal laws and with negotiated agreements of the PSC. The State manages the fishery inseason and issues emergency regulations to achieve conservation objectives and to implement allocation policies established by the Board.

The SEAK troll fishery is a mixed-stock, mixed-species fishery that primarily targets chinook salmon (Oncorhynchus tshawytscha) and coho salmon (O. kisutch), with pink salmon (O. gorbuscha), chum salmon (O. keta), and sockeye salmon (O. nerka) taken incidentally. The catch in this fishery represents approximately 6 percent of the total chinook and coho salmon landed by all salmon fisheries in Southeast Alaska (1991-1996 average). This fishery harvests less than 1 percent of the total harvest of pink, chum, and sockeye salmon occurring in Southeast waters. The chinook salmon originate in the waters of British Columbia and the coho salmon originate mainly in Alaska waters. The chinook salmon stocks that originate in Canada or pass through U.S-Canada boundaries are managed by the PSC under the Pacific Salmon Treaty.

In June 1998, the Council adopted Amendment 6 to the salmon FMP. In October 1998, the NMFS Alaska Fisheries Science Center (AFSC) stated it could not certify that the overfishing definitions comply with the national standard guidelines (50 CFR 600.310) without a considerably more explicit analysis. NMFS worked with scientists from the State to analyze how the State’s policies comport with the national standard guidelines.

In consultation with the Council and the State, NMFS revised the preferred alternative to include the status determination criteria recommended by the national standard guidelines. Using the State’s sustainable salmon fisheries policy and salmon escapement goal policy and the June 1999 Amendment to the Pacific Salmon Treaty, NMFS developed an MSY control rule, fishing mortality rate, maximum fishing mortality threshold, and minimum stock size threshold for the chinook salmon and coho salmon stocks caught in the troll fishery in the SEAK EEZ. The chinook and coho stocks serve as indicator stocks for the stock complex of salmon caught in this fishery. These status determination criteria specify objective and measurable criteria for identifying when the fishery to which the plan applies is overfished or when overfishing is occurring. This analysis is presented in the EA for Amendment 6 (see ADDRESSES).

In June 2001, the Council and its Scientific and Statistical Committee reviewed the revised preferred alternative. The Council concurred that the revised preferred alternative is consistent with the alternative recommended by the Council in June 1998 in that it is consistent with State policies.

Amendment 6 amends the salmon FMP by providing overfishing definitions, consistent with the national standard guidelines and the salmon FMP’s policy of Federal/State coordination. The overfishing definitions are based on State salmon management and the Pacific Salmon Treaty. The State’s policy for management of mixed-stock salmon fisheries is consistent with sustained yield of wild fish stocks and is sufficiently conservative to satisfy the Magnuson-Stevens Act.

The Director of the AFSC, NMFS, has certified without reservations that the proposed definitions of overfishing: (1) have sufficient scientific merit, (2) contain the criteria for stock determination specified in 50 CFR 600.305 (d)(2), (3) provide a basis for objective measurement of the status of the stock against the criteria, and (4) are operationally feasible.

NMFS determined that Amendment 6 to the salmon FMP is consistent with the Magnuson-Stevens Act and other applicable laws and, therefore, approved Amendment 6 on January 2, 2002. Additional information is contained in the October 5, 2001, notice of availability (66 FR 51001). No regulatory changes are necessary to implement this FMP amendment.

Dated: January 3, 2002.
Jonathan M. Kurland,
Acting Director, Office of Sustainable Fisheries, National Marine Fisheries Service.

[FR Doc. 02-554 Filed 1-8-02; 8:45 am]

BILLING CODE 3510-22-S